DEPARTMENT OF TRANSPORTATION

Federal Aviation Administration

Notice of Availability, Notice of Industry Day Meeting, and Request for Comment on the Draft Engineering Brief 105 for Vertiport Design

AGENCY: Federal Aviation Administration (FAA), Department of Transportation (DOT).

ACTION: Notice of availability, notice of industry day meeting, and request for comment.

SUMMARY: The FAA's Office of Airports is announcing the availability of and requesting comments on the draft Engineering Brief (EB) 105 for Vertiport Design. This draft EB provides interim safety standards for aviation facilities that electric Vertical Take-Off and Landing (eVTOL) type aircraft utilize for take-off and landing. These types of aviation facilities are commonly referred to as `vertiports'. Draft EB 105 is posted on the FAA website at: https://www.faa.gov/airports/engineering/engineering_briefs/drafts/. A comment matrix is also posted at this website for members of the public to utilize to submit written comments.

DATES: Comments on the draft EB 105 for Vertiport Design must be received on or before April 18, 2022.

The FAA will hold a virtual industry day meeting on the draft EB 105 on March 29, 2022 at 11:00 a.m. ET.

ADDRESSES: Please submit comments or questions regarding the draft EB 105 by email to the Federal Aviation Administration at vertiports@faa.gov.

FOR FURTHER INFORMATION CONTACT: Mr. Robert Bassey, Office of Airports, Federal Aviation Administration, 800 Independence Ave. SW, Washington, DC 20591, phone: (202) 267-7605, email: Robert.Bassey@faa.gov.

SUPPLEMENTARY INFORMATION: The FAA developed draft EB 105 to provide interim safety standards for the design and operation of aviation facilities that electric Vertical Take-Off and Landing (eVTOL) type aircraft utilize for take-off and landing. These take-off and landing facilities for eVTOL aircraft are commonly referred to as 'vertiports'. The agency is aware of a variety of eVTOL aircraft designs currently under development within the aviation industry. These new types of eVTOL aircraft, as well as vertiports utilized by these aircraft, are often referred to as components of a new and emerging sector of the aviation system known as Advanced Air Mobility (AAM). For additional general information on AAM, see: https://www.faa.gov/uas/advanced_operations/urban_air_mobility/ and https://www.faa.gov/uas/programs_partnerships/advanced_aviation_advisory_committee/.

The draft EB is based on research conducted by the FAA on the performance characteristics of various aircraft designs, currently under development, that will utilize vertiport facilities. The draft guidance contains a discussion of a composite aircraft (or reference aircraft), and the recommended safety standards contained in the draft guidance are only applicable to vertiports used by this composite aircraft or by any aircraft within the range of performance characteristics as this composite aircraft. The draft safety standards are not applicable for vertiport facilities that will be utilized by other types of aircraft outside the performance characteristics of this composite aircraft.

The FAA will hold a virtual industry day meeting on the draft EB 105 on March 29, 2022 at 11:00 a.m. ET. During this meeting, the FAA will provide an overview of the draft EB 105, discuss some critical aspects of the draft currently under consideration and provide an opportunity for attendees to ask questions about it. Interested parties who wish to participate in the industry day meeting will need to register and can access information on how to register on the web page where the draft EB is posted. Requests for accommodations to a disability must be received by March 18, 2022.

The FAA is seeking public comments on the draft EB for Vertiport Design to help inform the development of the final EB. The draft EB is posted on the FAA website at: https://www.faa.gov/airports/engineering/engineering_briefs/drafts/.

Members of the public should utilize the comments matrix provided at the above website to submit comments on the draft EB. Completed comment matrices should be submitted to the email address listed in the ADDRESSES section. The FAA will not accept comments during the industry day meeting.

The FAA would like to publish a final EB 105 for Vertiport Design later this year, following the adjudication of comments received during the public comment period. The FAA may update this EB as necessary to reflect the continuing development of eVTOL aircraft and as the agency learns more about these new types of aircraft. Additionally, the FAA intends to publish a new Advisory Circular (AC) on Vertiport Design in the future to provide additional guidance in this area. The FAA cancelled the previous Vertiport Design AC (AC 150/5390-3) in 2010 due to a lack of compatible aircraft use. See: https://www.faa.gov/regulations_policies/advisory_circulars/index.cfm/go/document.information/documentID/23096.

Issued in Washington, DC, on February 24, 2022.
John Dermody,
Director, Office of Airport Safety & Standards.

[FR Doc. 2022-04351 Filed 3-1-22; 8:45 am]

BILLING CODE 4910-13-P